DEPARTMENT OF EDUCATION

34 CFR Part 5b

Privacy Act Regulations

AGENCY: Office of Management, Department of Education.

ACTION: Final regulations.

SUMMARY: The Secretary amends the Department's regulations implementing the Privacy Act of 1974. These regulations make technical changes under § 5b.11 exempt systems of the Privacy Act regulations. These final regulations change the numbering system for the exempt systems, change the system location for Personnel Security and Suitability Purposes, and delete the Suitability for Employment Records (18-11-0020) from the Department's inventory of systems of records.

DATES: These regulations are effective March 15, 2004.

FOR FURTHER INFORMATION CONTACT: Chiquitta Thomas, Office of the Chief Information Officer, Regulatory Information Management Group, U.S. Department of Education, 400 Maryland Avenue, SW., room 4050, ROB3, Washington, DC 20202-4651. Telephone: (202) 708-9265.

If you use a telecommunications device for the deaf (TDD), you may call the Federal Information Relay Service (FIRS) at 1-800-877-8339.

Individuals with disabilities may obtain this document in an alternative format (e.g., Braille, large print, audiotape, or computer diskette) on request to the contact person listed under FOR FURTHER INFORMATION CONTACT.

SUPPLEMENTARY INFORMATION:

Waiver of Proposed Rulemaking

Under the Administrative Procedure Act (5 U.S.C. 553) the Department generally offers interested parties the opportunity to comment on proposed regulations. However, these amendments make procedural changes only to revise the file designation numbers, list of systems exempted, and office name and do not establish new substantive policy. Therefore, under 5 U.S.C. 553(b)(A), the Secretary has determined that proposed rulemaking is not required.

Regulatory Flexibility Act Certification

The Secretary certifies that these regulations will not have a significant economic impact on a substantial number of small entities.

These regulations involve procedural rights of individuals under the Privacy Act. Individuals are not considered to be “entities” under the Regulatory Flexibility Act.

Paperwork Reduction Act of 1995

These regulations do not contain any information collection requirements.

Assessment of Educational Impact

Based on our own review, we have determined that these final regulations do not require transmission of information that any other agency or authority of the United States gathers or makes available.

Electronic Access to This Document

You may view this document, as well as all other Department of Education documents published in the Federal Register, in text or Adobe Portable Document Format (PDF) on the Internet at the following site: http://www.ed.gov/news/FedRegister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at http://www.gpoaccess.gov/nara/index.html.

(Catalog of Federal Domestic Assistance Number does not apply.)

List of Subjects in 34 CFR Part 5b

Privacy.

Dated: March 9, 2004.
William J. Leidinger,
Assistant Secretary for Management and Chief Information Officer.

For the reasons discussed in the preamble, the Secretary amends part 5b of title 34 of the Code of Federal Regulations as follows:

PART 5b—PRIVACY ACT REGULATIONS

1. The authority citation for part 5b continues to read as follows:

Authority: 5 U.S.C. 301, 5 U.S.C. 552a.

§ 5b.11 [Amended]

2. Section 5b.11 is amended by:

a. In the introductory text in paragraph (b), removing “(18-10-0001)” and adding, in its place “(18-10-01)” and removing “(18-10-0004)” and adding, in its place “(18-10-04)”.

b. In the introductory text in paragraph (c)(1), removing “(18-10-0001)” and adding, in its place “(18-10-01)” and removing “(18-10-0004)” and adding, in its place “(18-10-04)”.

c. In the introductory text in paragraph (c)(2), removing “(18-08-0002)” and adding, in its place “(18-08-01)”.

d. In the introductory text in paragraph (d)(1), removing “(18-10-0002)” and adding, in its place “(18-05-17)”; removing the designation for paragraph (d)(1); redesignating paragraphs (d)(1)(i), (d)(1)(ii), and (d)(1)(iii) as paragraphs (d)(1), (d)(2), and (d)(3), respectively; and removing paragraph (d)(2).

e. In the last sentence of paragraph (e), removing “Information Management Branch, Washington, DC 20202-4753” and adding, in its place “Office of the Chief Information Officer, Regulatory Information Management Group, Washington, DC 20202-4651.”

[FR Doc. 04-5673 Filed 3-12-04; 8:45 am]

BILLING CODE 4000-01-P